COMMODITY FUTURES TRADING COMMISSION

17 CFR Parts 9, 36, 37, 38, 39, and 43

RIN 3038-AE25

Swap Execution Facilities and Trade Execution Requirement

AGENCY: Commodity Futures Trading Commission.

ACTION: Extension of comment period.

SUMMARY: The Commodity Futures Trading Commission (“Commission”) is extending the comment period for a proposed rule regarding swap execution facilities and the trade execution requirement (the “SEF NPRM”) that published November 30, 2018 in the Federal Register.

DATES: The comment period for the SEF NPRM is extended until March 15, 2019.

ADDRESSES: You may submit comments, identified by “Swap Execution Facilities and Trade Execution Requirement” and RIN 3038-AE25, by any of the following methods:

• The agency's website: http://comments.cftc.gov. Follow the instructions for submitting comments.

• Mail: Secretary of the Commission, Commodity Futures Trading Commission, Three Lafayette Centre, 1155 21st Street NW, Washington, DC 20581.

• Hand Delivery/Courier: Same as Mail above.

All comments must be submitted in English, or if not, accompanied by an English translation. Comments will be posted as received to http://www.cftc.gov. You should submit only information that you wish to make available publicly. If you wish the Commission to consider information that you believe is exempt from disclosure under the Freedom of Information Act, a petition for confidential treatment of the exempt information may be submitted according to the procedures established under 17 CFR 145.9 of the Commission's regulations.¹

¹ 17 CFR 145.9.

The Commission reserves the right, but shall have no obligation, to review, pre-screen, filter, redact, refuse or remove any or all submissions from www.cftc.gov that it may deem to be inappropriate for publication, such as obscene language. All submissions that have been redacted or removed that contain comments on the merits of the rulemaking will be retained in the public comment file and will be considered as required under the Administrative Procedure Act and other applicable laws, and may be accessible under the Freedom of Information Act.

FOR FURTHER INFORMATION CONTACT: Nhan Nguyen, Special Counsel, (202) 418-5932, nnguyen@cftc.gov; Roger Smith, Special Counsel, (202) 418-5344, rsmith@cftc.gov; or David Van Wagner, Chief Counsel, (202) 418-5481, dvanwagner@cftc.gov, Division of Market Oversight; Michael Penick, Senior Economist, (202) 418-5279, mpenick@cftc.gov, Office of the Chief Economist, Commodity Futures Trading Commission, Three Lafayette Centre, 1155 21st Street NW, Washington, DC 20581.

SUPPLEMENTARY INFORMATION: On November 6, 2018, the Commission approved for publication in the Federal Register the SEF NPRM. The SEF NPRM was published in the Federal Register on November 30, 2018, with a 75-day comment period scheduled to close on February 13, 2019.² Based on the broad range of topics addressed in the SEF NPRM and the number of questions posed, the Commission has determined to extend the comment period. Accordingly, the comment period for the SEF NPRM is open through March 15, 2019.

² 83 FR 61946 (November 30, 2018).

Issued in Washington, DC, on February 5, 2019, by the Commission.
Robert Sidman,
Deputy Secretary of the Commission.

Note: The following appendix will not appear in the Code of Federal Regulations.

Appendix to Swap Execution Facilities and Trade Execution Requirement—Commission Voting Summary

On this matter, Chairman Giancarlo, and Commissioners Quintenz, Behnam, Stump, and Berkovitz voted in the affirmative. No Commissioner voted in the negative.

[FR Doc. 2019-01668 Filed 2-11-19; 8:45 am]

BILLING CODE 6351-01-P